NUCLEAR REGULATORY COMMISSION

[Docket No. 70-7029; NRC-2020-0232]

Defense Threat Reduction Agency, Ft. Belvoir, Virginia

AGENCY: Nuclear Regulatory Commission.

ACTION: License; issuance.

SUMMARY: The U.S. Nuclear Regulatory Commission (NRC) has issued Special Nuclear Materials (SNM) License No. SNM-7005 to the Defense Threat Reduction Agency (DTRA), in Ft. Belvoir, Virginia to possess and use SNM for education, research, and training programs. The license authorizes DTRA to possess and use SNM for 10 years from the date of issuance.

DATES: License SNM-7005 was issued May 20, 2021.

ADDRESSES: Please refer to Docket ID NRC-2020-0232 when contacting the NRC about the availability of information regarding this document. You may obtain publicly available information related to this document using any of the following methods:

• Federal Rulemaking Website: Go to https://www.regulations.gov and search for Docket ID NRC-2020-0232. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, instructions about obtaining materials referenced in this document are provided in the “Availability of Documents” section.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Tyrone D. Naquin, Office of Nuclear Material Safety and Safeguards, U.S. Nuclear Regulatory Commission, Washington, DC 20555-0001; telephone: 301-415-7352; email: Tyrone.Naquin@nrc.gov.

SUPPLEMENTARY INFORMATION:

I. Background

The DTRA is a combat support agency and a defense agency with a mission to counter the threats posed by weapons of mass destruction, including chemical, biological, radiological, nuclear, and high-yield explosives; counter the threats posed by the growing and evolving categories of improvised threats, including improvised explosive devices, car bombs and weaponized consumer drones, as well as the tactics, technologies and networks that put them on the battlefield; and to ensure that the U.S. military maintains a safe, secure, effective and credible nuclear weapons deterrent.

II. Discussion

Pursuant to Section 2.106 of title 10 of the Code of Federal Regulations (10 CFR), the NRC is providing notice of the issuance of new license SNM-7005 to DTRA, which authorizes DTRA to possess and use SNM for education, research, and training programs at its location in Ft. Belvoir, Virginia. The original application for a license was submitted on August 21, 2020 (ADAMS Accession No. ML20254A189). DTRA subsequently supplemented and revised its application in response to a request for additional information (ADAMS Accession No. ML21057A037) on February 26, 2021. Because the licensed material will be used for research and development purposes, issuance of License SNM-7005 is an action that is categorically excluded from a requirement to prepare an environmental assessment or environmental impact statement, pursuant to 10 CFR 51.22(c)(14)(v).

The NRC previously published notice of DTRA's request for a materials license with a notice of opportunity to request a hearing in the Federal Register on October 28, 2020 (85 FR 68374). The NRC did not receive a request for a hearing or for a petition for leave to intervene. This license complies with the standards and requirements of the Atomic Energy Act of 1954, as amended, and the NRC's rules and regulations as set forth in 10 CFR Chapter 1. Accordingly, this license was issued on May 20, 2021, and was effective immediately.

The NRC prepared a safety evaluation report for the issuance of License SNM-7005 and concluded that the licensee can operate the facility without endangering the health and safety of the public.

III. Availability of Documents

In accordance with 10 CFR 2.390 of the NRC's “Rules of Practice,” the details with respect to this action, including the safety evaluation report and accompanying documentation and license, are available electronically at the NRC's Electronic Reading Room at https://www.nrc.gov/reading-rm/adams.html. From this site, you can access ADAMS, which provides text and image files of the NRC's public documents. For further details related to this action, visit https://www.regulations.gov under Docket ID NRC-2020-0232.

The documents identified in the following table are available to interested persons through ADAMS accession numbers as indicated.

Document description | ADAMS Accession No.
DTRA's application for materials license, August 21, 2020 | ML20254A189
Response to Request for Additional Information and Revisions to application, February 26, 2021 | ML21057A037
Issuance of SNM-7005, May 20, 2021 | ML21064A164 (Package)
NRC Safety Evaluation Report, May 20, 2021 | ML21064A166
Special Nuclear Materials License for the DTRA, May 20, 2021 | ML21064A167

Dated: June 3, 2021.
For the Nuclear Regulatory Commission.
Yoira K. Diaz-Sanabria,
Acting Director, Division of Fuel Management, Office of Nuclear Material Safety and Safeguards.

[FR Doc. 2021-12070 Filed 6-8-21; 8:45 am]

BILLING CODE 7590-01-P